NATIONAL TRANSPORTATION SAFETY BOARD

Sunshine Act Meeting

TIME AND PLACE: 9:30 a.m., Tuesday, November 27, 2001.

PLACE: NTSB Conference Center, 429 L'Enfant Plaza SW., Washington, DC 20594.

STATUS: The two items are Open to the Public.

MATTERS TO BE CONSIDERED:

7410—Highway Accident Report—Collision Between Metrolink Train 901 and Mercury Transportation, Inc., Tractor-Semitrailer at Highway-Railroad Grade Crossing in Glendale, California, on January 28, 2000.

7411—Railroad Accident Report—Rear-End Collision of National Railroad Passenger Corporation (Amtrak) Train P286 With CSXT Freight Train Q620 on the CSX Railroad at Syracuse, New York, February 5, 2001.

News Media Contact: Telephone: (202) 314-6100. Individuals requesting specific accommodations should contact Ms. Carolyn Daragan at (202) 314-6305 by Friday, November 23, 2001.

FOR FURTHER INFORMATION CONTACT: Vicky D'Onofrio, (202) 314-6410.

Dated: November 16, 2001.
Vicky D'Onofrio,
Federal Register Liaison Officer.

[FR Doc. 01-29170 Filed 11-16-01; 3:29 pm]

BILLING CODE 7533-01-M